DEPARTMENT OF AGRICULTURE

Animal and Plant Health Inspection Service

[Docket No. 01-078-1]

User Fees; Agricultural Quarantine and Inspection Services and Import- and Export-Related Veterinary Services

AGENCY: Animal and Plant Health Inspection Service, USDA.

ACTION: Notice.

SUMMARY: This notice pertains to user fees charged for agricultural quarantine and inspection services we provide in connection with commercial vessels, commercial trucks, commercial railroad cars, commercial aircraft, and international airline passengers arriving at ports in the Customs territory of the United States, and to import- and export-related services that we provide for animals, animal products, birds, germ plasm, organisms, and vectors. The purpose of this notice is to remind the public of the user fees for fiscal year 2002 (October 1, 2001, through September 30, 2002).

FOR FURTHER INFORMATION CONTACT: For information concerning AQI program operations, contact Mr. Colonel Locklear, Senior Staff Officer, PPQ, APHIS, 4700 River Road Unit 60, Riverdale, MD 20737-1236; (301) 734-8372.

For information concerning VS program operations, contact Dr. Gary Colgrove, Chief Staff Veterinarian, National Center for Import and Export, VS, APHIS, 4700 River Road Unit 38, Riverdale, MD 20737-1236; (301) 734-8364.

For information concerning user fee development, contact Ms. Donna Ford, User Fees Section Head, FSSB, FMD, MRP-BS, APHIS, 4700 River Road Unit 54, Riverdale, MD 20737-1232; (301) 734-8351.

SUPPLEMENTARY INFORMATION:

Background

The regulations in 7 CFR 354.3 (referred to below as the regulations) contain provisions for the collection of user fees for agricultural quarantine and inspection (AQI) services provided by the Animal and Plant Health Inspection Service (APHIS). These services include, among other things, inspecting commercial vessels, commercial trucks, commercial railroad cars, commercial aircraft, and international airline passengers arriving at ports in the Customs territory of the United States from points outside the United States. (The Customs territory of the United States is defined in the regulations as the 50 States, the District of Columbia, and Puerto Rico.)

These user fees are authorized by 2509(a) of the Food, Agriculture, Conservation, and Trade Act of 1990 (21 U.S.C. 136a). This statute, known as the Farm Bill, was amended by 504 of the Federal Agriculture Improvement and Reform Act of 1996 (Pub. L. 104-127, 110 Stat. 888) on April 4, 1996.

On July 24, 1997, we published in the Federal Register (62 FR 39747-39755, Docket No. 96-038-3) a final rule that amended the regulations by adjusting our user fees for servicing commercial vessels, commercial trucks, commercial railroad cars, commercial aircraft, and international airline passengers arriving at ports in the Customs territory of the United States from points outside the United States and by setting user fees for these services for fiscal years 1997 through 2002 and beyond. Additionally, on November 16, 1999, we published in the Federal Register (64 FR 62089-62096, Docket No. 98-073-2) another final rule that amended the regulations by updating some of the user fees. When we established the user fees for fiscal years 1997 through 2002 and beyond, we stated that, prior to the beginning of the fiscal year, we would publish a notice to remind the public of the user fees for that fiscal year. This document provides notice to the public of the user fees for fiscal year 2002 (October 1, 2001, through September 30, 2002).

Agricultural Quarantine and Inspection Services

We inspect commercial vessels of 100 net tons or more.¹ As specified in § 354.3(b)(1), our user fee for inspecting commercial vessels will be $480.50 during fiscal year 2002.

¹ Those commercial vessels subject to inspections are specified in 7 CFR, chapter III, part 330 or in 9 CFR, chapter I, subchapter D of the regulations. Exemptions to these user fees are specified in § 354.3(b)(2).

We inspect commercial trucks ² entering the Customs territory of the United States. Commercial trucks may pay the APHIS user fee each time they enter the Customs territory of the United States from Mexico ³ or purchase a prepaid APHIS permit for a calendar year. Since commercial trucks are also subject to Customs user fees, our regulations provide that commercial trucks must prepay the APHIS user fee if they are prepaying the Customs user fee. In that case, the required APHIS user fee is 20 times the user fee for each arrival and is valid for an unlimited number of entries during the calendar year (see § 354.3(c)(3)(i) of the regulations). The truck owner or operator, upon payment of the APHIS and the Customs user fees, receives a decal to place on the truck windshield. This is a joint decal, indicating that both the Customs and APHIS user fees for the truck have been paid for that calendar year. As specified in § 354.3(c)(1), our user fee for inspecting commercial trucks will be $4.75 for individual arrivals and, as specified in § 354.3(c)(3)(i), $95 for a calendar year 2002 decal.

² Those commercial trucks subject to inspections are specified in 7 CFR, chapter III, part 330 or in 9 CFR, chapter I, subchapter D of the regulations. Exemptions to these user fees are specified in § 354.3(c)(2).

³ Section 354.3(c)(2)(i) of the regulations states that commercial trucks entering the Customs territory of the United States from Canada are exempt from paying an APHIS user fee.

We inspect commercial railroad cars⁴ entering the Customs territory of the United States. These user fees may be paid per inspection or prepaid. Prepaid user fees cover 1 calendar year's worth of AQI inspections. As specified in § 354.3(d)(1), the user fee for this service will be $7.00 per loaded commercial railroad car for each arrival or, if user fees are prepaid, $140 (20 times the individual arrival fee) for each loaded railcar during fiscal year 2002.

⁴ Those commercial railroad cares subject to inspections are specified in 7 CFR, chapter III, part 330 or in 9 CFR, chapter I, subchapter D of the regulations. Exemptions to these user fees are specified in § 354.3(d)(2).

We also inspect international commercial aircraft⁵ arriving at ports in the Customs territory of the United States. As specified in § 354.3(e)(1), the user fee will be $65.25 during fiscal year 2002.

⁵ Those commercial aircraft subject to inspections are specified in 7 CFR, chapter III, part 330 or in 9 CFR, chapter I, subchapter D of the regulations. Exemptions to these user fees are specified in § 354.3(e)(2).

We also inspect international airline passengers ⁶ arriving at ports in the Customs territory of the United States. As specified in § 354.3(f)(1), the international airline passenger user fee will be $3.10 during fiscal year 2002.

⁶ Those international airline passengers subject to inspections are specified in 7 CFR, chapter III, part 330 or in 9 CFR, chapter I, subchapter D of the regulations. Exemptions to these user fees are specified in § 354.3(f)(2).

In addition to the user fees described above, APHIS also charges user fees for import- and export-related veterinary services. The regulations in 9 CFR part 130 list user fees for import- and export-related services provided by APHIS for animals, animal products, birds, germ plasm, organisms, and vectors.

These user fees are authorized by 2509(c)(1) of the Food, Agriculture, Conservation, and Trade Act of 1990, as amended (21 U.S.C. 136a). APHIS is authorized to establish and collect fees that will cover the cost of providing import- and export-related services for animals, animal products, birds, germ plasm, organisms, and vectors.

On August 28, 2000, we published in the Federal Register (62 FR 51997-52010, Docket No. 97-058-2) a final rule that amended the regulations in 9 CFR part 130 by adjusting our user fees for import- and export-related services that we provide for animals, animal products, birds, germ plasm, organisms, and vectors and by setting user fees for these services for fiscal years 2001 through 2004 and beyond. Additionally, on August 1, 2001, we published in the Federal Register (66 FR 39628-39632, Docket No. 99-060-2) another final rule that amended the regulations by updating some of the user fees. When we established the user fees for fiscal years 2001 through 2004 and beyond, we stated that, prior to the beginning of the fiscal year, we would publish a notice to remind the public of the user fees for that fiscal year. This document provides notice to the public of the user fees for fiscal year 2002 (October 1, 2001, through September 30, 2002).

Import- and Export-Related Veterinary Services

We provide standard and nonstandard housing, care, feed, and handling for individual animals and certain birds ⁷ quarantined in APHIS-owned or -operated animal quarantine facilities, including APHIS Animal Import Centers. As specified in § 130.2(a), the daily user fee for each animal or bird quarantined in APHIS-owned or -operated animal quarantine facilities receiving standard housing, care, feed, and handling for fiscal year 2002 will be as follows:

⁷ Those animals and birds subject to quarantine are specified in 9 CFR, chapter I, subchapter D of the regulations.

Animal or bird | User Fee— Oct. 1, 2001-Sept. 30, 2002
Birds (excluding ratites and pet birds imported in accordance with 9 CFR part 93):
0-250 grams | $1.50
251-1,000 grams | 5.25
Over 1,000 grams | 13.00
Domestic or zoo animals (except equines, birds, and poultry):
Bison, bulls, camels, cattle, or zoo animals | 97.00
All others, including, but not limited to, alpacas, llamas, goats, sheep, and swine | 26.00
Equines (including zoo equines, but excluding miniature horses):
1st through 3rd day (fee per day) | 257.00
4th through 7th day (fee per day) | 186.00
8th and subsequent days (fee per day) | 158.00
Miniature horses | 58.00
Poultry (including zoo poultry):
Doves, pigeons, quail | 3.25
Chickens, ducks, grouse, guinea fowl, partridge, pea fowl, pheasants | 6.00
Large poultry and large waterfowl, including, but not limited to game cocks, geese, swans, and turkeys | 14.00
Ratites:
Chicks (less than 3 months old) | 9.00
Juveniles (3 months through 10 months old) | 13.00
Adults (11 months old and older) | 26.00

Certain conditions or traits, such as pregnancy or aggression, may necessitate special requirements for certain birds or poultry. Birds and poultry receiving nonstandard housing, care, feed, or handling to meet special requirements may receive those services while quarantined in an APHIS-owned or -operated quarantine facility at the request of an importer or as required by an APHIS representative. As specified in § 130.2(b), the daily user fee for each bird or poultry receiving nonstandard housing, care, or handling while quarantined in an APHIS-owned or -operated animal quarantine facility for fiscal year 2002 is $5.25 for birds weighing 250 grams or less, and doves, pigeons, and quail; $13.00 for birds weighing 251-1,000 grams and poultry such as chickens, ducks, grouse, guinea fowl, partridge, pea fowl, and pheasants; and $24.00 for birds over 1,000 grams and large poultry and large waterfowl, including, but not limited to game cocks, geese, swans, and turkeys. As specified in § 130.2(c), importers of animals or birds that require a diet other than standard feed must either provide feed or pay APHIS for feed on an actual cost basis, including the cost of delivery to the APHIS-owned or -operated Animal Import Center or quarantine facility.

We accept requests from importers to exclusively occupy a space at an APHIS Animal Import Center. As specified in § 130.3(a)(1), the monthly user fee for exclusive use of space at APHIS Animal Import Center in Newburgh, NY, for fiscal year 2002 is $56,054 to occupy a space 5,396 square feet in size, $92,484 for a space 8,903 square feet in size, and $9,401 for a space 905 square feet in size. The fees listed in § 130.3(a)(1) cover all costs of quarantine ⁸ except feed. The importer either provides the feed or pays for it on an actual cost basis, including the cost of delivery.

⁸ Section 130.3(a)(2) and 130.3(c) specifies that additional user fees will be charged to importers for occupancy of space for more than 30 days or nonstandard handling or care of animals or birds.

We process applications for permits to import and transport certain animal products, organisms, vectors, and germ plasm.⁹ As specified in § 130.4, the user fees for processing import permit applications for certain animals and animal products during fiscal year 2002 will be as follows:

⁹ Those animal products,organisms, vectors, and germ plasm that require permits for importation into the United States are specified in 9 CFR, chapter I, subchapter D of the regulations.

Service | Unit | User fee—Oct. 1, 2001-Sept. 30, 2002
Import compliance assistance:
Simple (2 hours or less) | Per release | $66.00
Complicated (more than 2 hours) | Per release | 169.00
Processing an application for a permit to import live animals, animal products or byproducts, organisms, vectors, or germ plasm (embryos or semen) or to transport organisms or vectors ¹:
Initial permit | Per application | 94.00
Amended permit | Per amended application | 47.00
Renewed permit ² | Per application | 61.00
Processing an application for a permit to import fetal bovine serum when facility inspection is required | Per application | 322.00
¹ Using Veterinary Services Form 16-3 “Application for Permit to Import or Transport Controlled Material or Organisms or Vectors,” or Form 17-129, “Application for Import or In Transit Permit (Animals, Animal Semen, Animal Embryos, Birds, Poultry, or Hatching Eggs).”
² Permits to import germ plasm and live animals are not renewable.

We inspect live animals presented for importation into or entry into the United States through a land border port along the United States-Mexico border. As specified in § 130.6(a), the user fees for inspection of live animals at land border ports along the United States-Mexico border for fiscal year 2002 will be as listed in the following table:

Type of live animal | Per head user fee: Oct. 1, 2000-Sept. 30, 2001 | Per head user fee: Oct. 1, 2001-Sept. 30, 2002 | Per head user fee: Oct. 1, 2002-Sept. 30, 2003 | Per head user fee: Beginning Oct. 1, 2003
Any ruminants (including breeder ruminants) not covered below | $8.25 | $8.50 | $8.75 | $9.00
Feeder | 2.25 | 2.25 | 2.50 | 2.50
Horses, other than slaughter | 41.00 | 42.00 | 43.00 | 44.00
In-bond or in-transit | 5.25 | 5.50 | 5.50 | 5.75
Slaughter | 3.50 | 3.50 | 3.75 | 3.75

We also inspect live animals presented for importation into or entry into the United States through a land border port along the United States-Canada border. As specified in § 130.7(a), user fees for import or entry services for live animals at land border ports along the United States-Canada border for fiscal year 2002 will be as follows:

Type of live animal | Unit | User Fee—Oct. 1, 2001-Sept. 30, 2002
Animals being imported into the United States:
Breeding animals (grade animals, except horses):
Sheep and goats | Per head | $0.50
Swine | Per head | 0.75
All others | Per head | 3.25
Feeder animals:
Cattle (not including calves) | Per head | 1.50
Sheep and calves | Per head | 0.50
Swine | Per head | 0.25
Horses (including registered horses), other than slaughter and in-transit | Per head | 27.00
Poultry (including eggs), imported for any purpose | Per load | 47.00
Registered animals (except horses) | Per head | 5.50
Slaughter animals (except poultry) | Per load | 24.00
Animals transiting ¹ the United States:
Cattle | Per head | 1.50
Sheep and goats | Per head | 0.25
Swine | Per head | 0.25
Horses and all other animals | Per head | 6.50
¹ The user fee in this section will be charged for in-transit authorizations at the port where the authorization services are performed. For additional services provided by APHIS, at any port, the hourly user fee rate in § 130.30 will apply.

We provide a variety of other services related to the importation into or exportation from the United States of animals, animal products, birds, germ plasm, organisms, and vectors. As specified in § 130.8(a), user fees for those import- or export-related services during fiscal year 2002 are as follows:

Service | Unit | User Fee—Oct. 1, 2001-Sept. 30, 2002
Germ plasm being exported: ¹
Embryo: Up to 5 donor pairs | Per certificate | $79.00
Each additional group of donor pairs, up to 5 pairs per group, on the same certificate | Per group of donor pairs | 35.00
Semen | Per certificate | 48.00
Release from export agricultural hold:
Simple (2 hours or less) | Per release | 66.00
Complicated (more than 2 hours) | Per release | 169.00
¹ This user fee includes a single inspection and resealing of the container at the APHIS employee's regular tour of duty station or at a limited port. For each subsequent inspection and resealing required, the hourly user fee in § 130.30 will apply.

We inspect lots of pet birds ¹⁰ of United States origin returning to the United States. As specified in § 130.10(a), user fees for the inspection of pet birds of U.S. origin returning to the United States, except pet birds of U.S. origin returning to Canada, during fiscal year 2002 are $102.00 per lot of birds which have been out of the United States for 60 days or less, and $243.00 per lot of pet birds which have been out of the United States for more than 60 days.

¹⁰ Provisions for the importation of pet birds into the United Sates are specified in 9 CFR chapter I, subschpater D of the regulations.

We also provide housing, care, feed, and handling for pet birds quarantined in APHIS-owned or -supervised quarantine facilities. The daily user fee to quarantine pet birds applies per isolette and varies based on the number of pet birds determined by an APHIS representative to be appropriate per isolette. All the birds quarantined in one isolette are covered by one fee, which is assessed daily for the duration of the quarantine. As specified in § 130.10(b), the daily user fee for each pet bird quarantined in an APHIS-owned or supervised quarantine facility for fiscal year 2002 is $8.75 for one pet bird quarantined in one isolette, $11.00 for two pet birds quarantined in one isolette, $13.00 for three pet birds quarantined in one isolette, $15.00 for four pet birds quarantined in one isolette, and $17.00 for five pet birds quarantined in one isolette.

We inspect and approve various import and export facilities and establishments.¹¹ As specified in § 130.11, the user fees for inspecting and approving import and export facilities and establishments during fiscal year 2002 will be as listed in the following table:

¹¹ Requirements for the inspection and approval of various quarantine facilities are specified in 9 CFR, chapter I, subchapter D of the regulations.

Service | Unit | User Fee—Oct. 1, 2001-Sept. 30, 2002
Embryo collection center inspection and approval (all inspections required during the year for facility approval) | Per year | $358.00
Inspection for approval of biosecurity level three laboratories (all inspections related to approving the laboratory for handling one defined set of organisms or vectors) | Per inspection | 977.00
Inspection for approval of pet food manufacturing, rendering, blending, or digest facilities:
Initial approval | For all inspections required during the year | 404.75
Renewal | For all inspections required during the year | 289.00
Inspection for approval of pet food spraying and drying facilities:
Initial approval | For all inspections required during the year | 275.00
Renewal | For all inspections required during the year | 162.00
Inspection for approval of slaughter establishment:
Initial approval (all inspections) | Per year | 352.00
Renewal (all inspections) | Per year | 305.00
Inspection of approved establishments, warehouses, and facilities under 9 CFR parts 94 through 96:
Approval (compliance agreement) (all inspections for first year of 3-year approval) | Per year | 375.00
Renewed approval (all inspections for second and third years of 3-year approval) | Per year | 217.00

We endorse export health certificates for animals, birds, or animal products.¹² As specified in § 130.20(a), the user fees for each export health certificate endorsed for each type of animal, bird, or animal product, regardless of the number of animals, birds, or animal products covered by the certificate, will be $30.00 for animal and nonanimal products, $28.00 for hatching eggs, $28.00 for poultry, including slaughter poultry, $33.00 for slaughter animals (except poultry) moving to Canada or Mexico, and $22.00 for other endorsements or certifications during fiscal year 2002.

¹² Those animals, birds, or animal products that require export health certificates are specified in 9 CFR, chapter I, subchapter D of the regulations.

We also endorse export health certificates for animals, birds, or animal products that require verification of tests or vaccinations. The user fees for these certificates apply to each export health certificate endorsed for animals and birds, depending on the number of animals or birds covered by the certificate and the number of tests or vaccinations required. As specified in § 130.20(b), the user fees for each export health certificate endorsed for animals and birds for fiscal year 2002 is as follows:

Number of tests or vaccinations and number of animals or birds on the certificate | User fee: Oct. 1, 2000-Sept. 30, 2001 | User fee: Oct. 1, 2001-Sept. 30, 2002 | User fee: Oct. 1, 2002-Sept. 30, 2003 | User fee: Beginning Oct. 1, 2003
1-2 tests or vaccinations
Nonslaughter horses to Canada:
First animal | $35.00 | $36.00 | $37.00 | $38.00
Each additional animal | 4.00 | 4.00 | 4.25 | 4.25
Other animals or birds:
First animal | 70.00 | 72.00 | 74.00 | 76.00
Each additional animal | 4.00 | 4.00 | 4.25 | 4.25
3-6 tests or vaccinations
First animal | 86.00 | 88.00 | 91.00 | 94.00
Each additional animal | 6.75 | 7.00 | 7.00 | 7.25
7 or more tests or vaccinations
First animal | 100.00 | 103.00 | 106.00 | 109.00
Each additional animal | 8.00 | 8.25 | 8.25 | 8.50

We provide certain import- or export-related veterinary services at hourly rates¹³ that may be performed during and outside of regularly established hours of service. As specified in § 130.30(a), the user fees for import- or export-related hourly veterinary services performed during regularly established hours of service, except those services covered by flat rate user fees, will be $80.00 per hour or $20.00 per quarter hour for each APHIS employee for fiscal year 2002. The minimum per service fee for import- or export-related veterinary services is $24.00 during fiscal year 2002.

¹³ Section 130.30(a)(1) through (a)(13) lists import- or export-related veterinary services that are calculated at hourly rates for each APHIS employee required to perform the service.

We also provide certain import- or export-related veterinary services at hourly rates outside of an APHIS employee's normal tour of duty. As specified in § 130.30(b), user fees for hourly veterinary services provided at any time outside an employee's normal tour of duty Monday through Saturday and on holidays will be $92.00 per hour or $23.00 per quarter hour for each APHIS employee during fiscal year 2002. User fees for hourly veterinary services provided on a Sunday will be of $104.00 per hour or $26.00 per quarter hour for each APHIS employee during fiscal year 2002.

Done in Washington, DC, this 14th day of September 2001.
Bobby R. Acord,
Acting Administrator, Animal and Plant Health Inspection Service.

[FR Doc. 01-23658 Filed 9-20-01; 8:45 am]

BILLING CODE 3410-34-P